DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Levy County, Florida, and Incorporated Areas
Docket No.: FEMA-B-1166
Bronson North Ditch | At Ifshie Avenue | +55 | Town of Bronson, Unincorporated Areas of Levy County.
| Approximately 0.4 mile upstream of U.S. Route 27A | +57
Bronson South Ditch | Just upstream of Lime Rock Road | +59 | Town of Bronson, Unincorporated Areas of Levy County.
| Approximately 600 feet upstream of West Main Street | +60
Long Pond | At Levy County Route 345 | +27 | City of Chiefland, Unincorporated Areas of Levy County.
| Just downstream of Northwest 60th Street | +28
* National Geodetic Vertical Datum.
+ North American Vertical Datum.
# Depth in feet above ground.
‸ Mean Sea Level, rounded to the nearest 0.1 meter.
ADDRESSES
City of Chiefland
Maps are available for inspection at City Hall, 214 East Park Avenue, Chiefland, FL 32626.
Town of Bronson
Maps are available for inspection at the Town Hall, 650 Oak Street, Bronson, FL 32621.
Unincorporated Areas of Levy County
Maps are available for inspection at the Levy County Building Department, 9010 Northeast 79th Street, Bronson, FL 32621.
Cobb County, Georgia, and Incorporated Areas
Docket No.: FEMA-B-1204
Bishop Creek | At the Sope Creek confluence | +905 | Unincorporated Areas of Cobb County.
| At the downstream side of Indian Hills Trail Northeast | +909
Blackjack Creek | At the Sope Creek confluence | +990 | City of Marietta.
| Approximately 250 feet upstream of the Sope Creek confluence | +998
Campground Creek | At the Sope Creek confluence | +927 | Unincorporated Areas of Cobb County.
| Approximately 0.5 mile upstream of the Sope Creek confluence | +930
Eastside Creek | At the Sope Creek confluence | +915 | Unincorporated Areas of Cobb County.
| Approximately 1,375 feet upstream of the Sope Creek confluence | +919
Elizabeth Branch | At the Sope Creek confluence | +998 | City of Marietta, Unincorporated Areas of Cobb County.
| Approximately 300 feet upstream of the Sope Creek confluence | +999
Piney Grove Creek | At the Sewell Mill Creek confluence | +945 | Unincorporated Areas of Cobb County.
| Approximately 50 feet upstream of the Sewell Mill Creek confluence | +949
Robertson Creek | At the Sewell Mill Creek confluence | +921 | Unincorporated Areas of Cobb County.
| Approximately 725 feet upstream of the Sewell Mill Creek confluence | +923
Sewell Mill Creek | At the Sope Creek confluence | +915 | Unincorporated Areas of Cobb County.
| Approximately 300 feet upstream of Karen Lane | +1083
Sope Branch | At the Sope Creek confluence | +1021 | City of Marietta.
| Approximately 550 feet upstream of the Sope Creek confluence | +1022
Sope Creek | Approximately 250 feet upstream of the Chattahoochee River confluence | +804 | City of Marietta, Unincorporated Areas of Cobb County.
| Approximately 200 feet upstream of Rigby Street | +1041
Thompson Creek | At the Sewell Mill Creek confluence | +933 | Unincorporated Areas of Cobb County.
| Approximately 1,500 feet upstream of the Sewell Mill Creek confluence | +933
Wildwood Branch | At the Sope Creek confluence | +976 | City of Marietta, Unincorporated Areas of Cobb County.
| Approximately 0.5 mile upstream of the Sope Creek confluence | +984
* National Geodetic Vertical Datum.
+ North American Vertical Datum.
# Depth in feet above ground.
‸ Mean Sea Level, rounded to the nearest 0.1 meter.
ADDRESSES
City of Marietta
Maps are available for inspection at the Public Works Department, 205 Lawrence Street, Marietta, GA 30060.
Unincorporated Areas of Cobb County
Maps are available for inspection at the Cobb County Development and Inspection Department, 205 Lawrence Street, Marietta, GA 30060.
Cole County, Missouri, and Incorporated Areas
Docket No.: FEMA-B-1218
Boggs Creek | At the upstream side of Missouri Pacific Railroad | +558 | City of Jefferson City, Unincorporated Areas of Cole County.
| Approximately 475 feet upstream of U.S. Route 50 | +633
Boggs Creek Tributary 1 | At the Boggs Creek confluence | +559 | City of Jefferson City.
| Approximately 1,150 feet upstream of McCarty Street | +573
Dickerson Creek | Approximately 1,600 feet downstream of Henwick Lane | +600 | City of St. Martins, Unincorporated Areas of Cole County.
| Approximately 1,400 feet upstream of the U.S. Route 50 West exit ramp | +725
Dickerson Creek Tributary 1 | At the Dickerson Creek confluence | +648 | City of St. Martins, Unincorporated Areas of Cole County.
| Approximately 0.47 mile upstream of U.S. Route 50B West | +669
Dickerson Creek Tributary 2 | At the confluence with Dickerson Creek | +697 | City of Jefferson City, Unincorporated Areas of Cole County.
| Approximately 170 feet upstream of Turnberry Drive | +738
East Branch Wears Creek | At the Wears Creek confluence | +557 | City of Jefferson City.
| Approximately 80 feet upstream of Mesa Avenue | +606
Frog Hollow Tributary | At the Wears Creek confluence | +614 | City of Jefferson City.
| Approximately 115 feet upstream of Sardonyx Drive | +640
Grays Creek | Approximately 0.75 mile upstream of the Missouri River confluence | +560 | City of Jefferson City, Unincorporated Areas of Cole County.
| Approximately 285 feet downstream of Missouri Pacific Railroad | +567
Grays Creek Tributary 4 | At Scott Station Lane | +580 | City of Jefferson City, Unincorporated Areas of Cole County.
| Approximately 950 feet upstream of Catalina Drive | +685
Grays Creek Tributary 5 | At the Grays Creek confluence | +561 | Unincorporated Areas of Cole County.
| Approximately 0.57 mile upstream of Schumate Chapel Road | +578
Grays Creek Tributary 6 | At the Grays Creek confluence | +561 | City of Jefferson City.
| Approximately 800 feet downstream of Belair Drive | +564
Meadows Creek (backwater effects from Missouri River) | From the Missouri River confluence to approximately 1,200 feet upstream of State Route 179 | +568 | Unincorporated Areas of Cole County.
Meadows Creek Tributary 2 (backwater effects from Missouri River) | From the Meadows Creek confluence to approximately 650 feet upstream of State Route 179 | +568 | Unincorporated Areas of Cole County.
Missouri River | At the Osage County boundary | +551 | City of Jefferson City, Unincorporated Areas of Cole County.
| At the Moniteau County boundary | +574
Moniteau Creek Tributary 1 (backwater effects from Missouri River) | From the Moniteau Creek confluence to approximately 0.63 mile upstream of State Route 179 | +573 | Unincorporated Areas of Cole County.
Moniteau Creek Tributary 2 (backwater effects from Missouri River) | From the Moniteau Creek confluence to approximately 0.58 mile upstream of State Route 179 | +570 | Unincorporated Areas of Cole County.
Moreau River (backwater effects from Missouri River) | From the Missouri River confluence to approximately 750 feet downstream of Missouri Pacific Railroad | +553 | City of Jefferson City.
Moreau River Tributary 6 | At the upstream side of Green Meadow Drive | +571 | City of Jefferson City.
| Approximately 600 feet downstream of Tanner Bridge Road | +611
Mud Creek West (backwater effects from Missouri River) | From the Missouri River confluence to approximately 0.61 mile upstream of the Missouri River confluence | +569 | Unincorporated Areas of Cole County.
North Branch Wears Creek | At the Wears Creek confluence | +557 | City of Jefferson City.
| Approximately 650 feet upstream of Jaycee Drive | +622
Osage River (backwater effects from Missouri River) | At the Osage County boundary | +551 | City of Taos, Unincorporated Areas of Cole County.
| Approximately 9.3 miles upstream of U.S. Route 50 | +551
Osage River Tributary 47 (backwater effects from Missouri River) | From the Osage River confluence to approximately 1,600 feet upstream of Big Meadows Road | +551 | Unincorporated Areas of Cole County.
Rising Creek | At the Missouri River confluence | +552 | City of Jefferson City, City of Taos, Unincorporated Areas of Cole County.
| Approximately 2,000 feet upstream of the U.S. Route 50 East exit ramp | +561
Rising Creek Tributary 4 | At the Rising Creek confluence | +552 | City of Jefferson City.
| Approximately 250 feet downstream of Stertzer Road | +557
Rock Creek North (backwater effects from Missouri River) | From the Missouri River confluence to approximately 0.70 mile upstream of State Route 179 | +569 | Unincorporated Areas of Cole County.
Sanford Creek (backwater effects from Missouri River) | From the Osage River confluence to approximately 1,200 feet upstream of U.S. Route 50 East | +551 | Unincorporated Areas of Cole County.
Wears Creek | At the Missouri River confluence | +557 | City of Jefferson City.
| Approximately 0.44 mile upstream of Edgewood Drive | +683
Workman Creek (backwater effects from Missouri River) | From the Missouri River confluence to approximately 0.47 mile upstream of State Route 179 | +566 | Unincorporated Areas of Cole County.
* National Geodetic Vertical Datum.
+ North American Vertical Datum.
# Depth in feet above ground.
‸ Mean Sea Level, rounded to the nearest 0.1 meter.
ADDRESSES
City of Jefferson City
Maps are available for inspection at City Hall, 320 East McCarty Street, Jefferson City, MO 65101.
City of St. Martins
Maps are available for inspection at City Hall, 6909 A Business 50 West, Jefferson City, MO 65109.
City of Taos
Maps are available for inspection at the Cole County Courthouse, 311 East High Street, Jefferson City, MO 65101.
Unincorporated Areas of Cole County
Maps are available for inspection at the Cole County Courthouse, 311 East High Street, Jefferson City, MO 65101.
Jasper County, Missouri, and Incorporated Areas
Docket No.: FEMA-B-1208
Brownell West | At the Silver Creek Tributary 2 confluence | +1011 | City of Joplin.
| At the downstream side of East 32nd Street | +1025
Center Creek Tributary 28 (backwater effects from Center Creek) | From approximately 500 feet upstream of the Center Creek confluence to approximately 1,012 feet upstream of the Center Creek confluence | +852 | Unincorporated Areas of Jasper County.
Eagle Picher Creek | Approximately 1,010 feet upstream of Northwest Murphy Boulevard | +959 | City of Joplin.
| Approximately 75 feet downstream of West 2nd Street | +989
Eagle Picher Creek Tributary 1 | At the Eagle Picher Creek confluence | +978 | City of Joplin.
| Approximately 81 feet downstream of North Maiden Lane | +991
Silver Creek Tributary 2 | Approximately 776 feet upstream of the Silver Creek confluence | +988 | City of Joplin.
| Approximately 77 feet downstream of East 32nd Street | +1021
Swifty Creek | Approximately 114 feet upstream of I-44 | +1086 | City of Sarcoxie, Unincorporated Areas of Jasper County.
| Approximately 500 feet upstream of 5th Street | +1099
Tin Cup Creek | Approximately 289 feet upstream of 32nd Street | +973 | City of Joplin.
| Approximately 178 feet upstream of West 30th Street | +988
Turkey Creek Tributary 3 (overflow effects from Turkey Creek) | At the Turkey Creek confluence | +995 | City of Duquesne, City of Joplin.
| Approximately 1,941 feet downstream of I-44 | +997
* National Geodetic Vertical Datum.
+ North American Vertical Datum.
# Depth in feet above ground.
‸ Mean Sea Level, rounded to the nearest 0.1 meter.
ADDRESSES
City of Duquesne
Maps are available for inspection at City Hall, 1501 South Duquesne Road, Joplin, MO 64801.
City of Joplin
Maps are available for inspection at City Hall, 602 South Main Street, Joplin, MO 64801.
City of Sarcoxie
Maps are available for inspection at City Hall, 111 North 6th Street, Sarcoxie, MO 64862.
Unincorporated Areas of Jasper County
Maps are available for inspection at the Jasper County Courthouse, 302 South Main Street, Carthage, MO 64836.
Walsh County, North Dakota, and Incorporated Areas
Docket No.: FEMA-B-1145
Red River of the North | Approximately 2,000 feet downstream of 77th Street Northeast extended | +802 | Unincorporated Areas of Walsh County.
| Approximately 260 feet upstream of North Dakota Highway 54 | +812
* National Geodetic Vertical Datum.
+ North American Vertical Datum.
# Depth in feet above ground.
‸ Mean Sea Level, rounded to the nearest 0.1 meter.
ADDRESSES
Unincorporated Areas of Walsh County
Maps are available for inspection at 600 Cooper Avenue, Grafton, ND 58237.
Luzerne County, Pennsylvania (All Jurisdictions)
Docket No.: FEMA-B-1127
Bear Creek | Approximately 0.4 mile downstream of Bear Creek Boulevard | +1502 | Borough of Bear Creek Village.
| Approximately 940 feet upstream of the confluence with Tenmile Run | +1530
Big Wapwallopen Creek | Approximately 0.41 mile upstream of State Route 239 | +522 | Township of Hollenback.
| Approximately 0.45 mile upstream of State Route 239 | +524
Big Wapwallopen Creek | Approximately 385 feet downstream of Hobbie Wapwallopen Road | +845 | Township of Dorrance, Township of Fairview, Township of Hollenback, Township of Rice, Township of Wright.
| Approximately 535 feet upstream of Dale Drive | +1526
Black Creek | Approximately 910 feet upstream of Susquehanna Boulevard | +1461 | Borough of West Hazleton.
| Approximately 0.56 mile upstream of Susquehanna Boulevard | +1470
Bow Creek | Approximately 1,185 feet upstream of the confluence with Bow Creek Tributary A | +1346 | Township of Fairview.
| Approximately 0.38 mile downstream of the railroad | +1546
Bow Creek Tributary A | Approximately 520 feet downstream of Wilkes Lane | +1341 | Township of Fairview.
| Approximately 1,865 feet upstream of Shady Tree Drive | +1491
Browns Creek | Approximately 100 feet downstream of Private Road | +901 | Township of Jackson.
| Approximately 1,390 feet upstream of Chase Road | +988
Harveys Creek | Approximately 590 feet downstream of Shady Lane | +1098 | Township of Lehman.
| Approximately 410 feet downstream of Shady Lane | +1099
Huntington Creek | Approximately 1,320 feet downstream of Henrico Road | +894 | Township of Ross.
| Approximately 1,290 feet downstream of Henrico Road | +894
Lattimer Creek | Approximately 900 feet downstream of West 28th Street | +1491 | Township of Hazle.
| Approximately 745 feet upstream of Hillside Drive | +1585
Lidy Creek | Approximately 265 feet downstream of the Pennsylvania Turnpike | +833 | Township of Pittston.
| Approximately 115 feet downstream of the Pennsylvania Turnpike | +837
Little Nescopeck Creek No. 2 | Approximately 0.77 mile downstream of Sunset Drive | +942 | Township of Butler.
| Approximately 0.76 mile downstream of Sunset Drive | +942
Mill Creek No. 2 | Approximately 650 feet downstream of I-81 | +783 | Township of Pittston.
| Approximately 500 feet downstream of I-81 | +799
Pikes Creek | Approximately 815 feet downstream of State Route 29 | +1127 | Township of Lehman.
| Approximately 700 feet downstream of State Route 29 | +1127
| Approximately 965 feet upstream of the confluence with Fades Creek | +1141
| Approximately 1,005 feet downstream of State Route 118 | +1143
Pine Creek No. 1 | Approximately 540 feet downstream of White Haven Road | +1355 | Borough of Penn Lake Park.
| Approximately 390 feet downstream of White Haven Road | +1359
Pine Creek No. 2 | Approximately 1.1 miles downstream of Town Hill Road | +731 | Township of Huntington.
| Approximately 0.91 mile downstream of Town Hill Road | +736
Pine Creek No. 2 | Approximately 885 feet downstream of Volanski Road | +842 | Township of Fairmount.
| Approximately 810 feet downstream of Volanski Road | +842
South Branch Newport Creek | Approximately 450 feet upstream of the confluence with Newport Creek | +560 | Township of Newport.
| Approximately 670 feet upstream of the confluence with Newport Creek | +560
Spring Run | Approximately 110 feet upstream of railroad | +576 | Borough of Ashley.
| Approximately 300 feet upstream of railroad | +578
Susquehanna River | Approximately 1.95 miles downstream of Salem Creek | +500 | Borough of Duryea, Borough of Edwardsville, Borough of Exeter, Borough of Forty Fort, Borough of Kingston, Borough of Larksville, Borough of Nescopeck, Borough of Plymouth, Borough of Shickshinny, Borough of West Pittston, Borough of Wyoming, City of Nanticoke, City of Pittston, City of Wilkes-Barre, Township of Conyngham, Township of Exeter, Township of Hanover, Township of Hunlock, Township of Jenkins, Township of Nescopeck, Township of Newport, Township of Plains, Township of Plymouth, Township of Salem, Township of Union.
| Approximately 2.49 miles upstream of the confluence with Sutton Creek | +579
Sutton Creek | Approximately 300 feet upstream of Miller Road | +845 | Township of Exeter.
| Approximately 405 feet upstream of Miller Road | +846
Toby Creek | Approximately 700 feet downstream of Cross Valley Expressway | +644 | Borough of Courtdale, Borough of Luzerne.
| Approximately 0.49 mile upstream of Cross Valley Expressway | +759
Toby Creek | Approximately 205 feet upstream of Woodlawn Avenue | +1125 | Township of Dallas.
| Approximately 240 feet upstream of Woodlawn Avenue | +1125
Watering Run | At the confluence with Big Wapwallopen Creek, approximately 440 feet upstream of Morio Drive | +1071 | Township of Wright.
| Approximately 0.58 mile upstream of South Mountain Boulevard | +1422
* National Geodetic Vertical Datum.
+ North American Vertical Datum.
# Depth in feet above ground.
‸ Mean Sea Level, rounded to the nearest 0.1 meter.
ADDRESSES
Borough of Ashley
Maps are available for inspection at the Borough Building, 10 North Main Street, Ashley, PA 18706.
Borough of Bear Creek Village
Maps are available for inspection at the Bear Creek Village Borough Building, 867 Railroad Lane, Bear Creek, PA 18602.
Borough of Courtdale
Maps are available for inspection at the Borough Building, 5 Blackman Street, Courtdale, PA 18704.
Borough of Duryea
Maps are available for inspection at the Borough Building, 315 Main Street, Duryea, PA 18642.
Borough of Edwardsville
Maps are available for inspection at the Edwardsville Borough Building, 470 Main Street, Kingston, PA 18704.
Borough of Exeter
Maps are available for inspection at the Borough Building, 1101 Wyoming Avenue, Exeter, PA 18643.
Borough of Forty Fort
Maps are available for inspection at the Borough Building, 1271 Wyoming Avenue, Forty Fort, PA 18704.
Borough of Kingston
Maps are available for inspection at the Borough Building, 500 Wyoming Avenue, Kingston, PA 18704.
Borough of Larksville
Maps are available for inspection at the Borough Building, 211 East State Street, Larksville, PA 18704.
Borough of Luzerne
Maps are available for inspection at the Borough Building, 144 Academy Street, Luzerne, PA 18709.
Borough of Nescopeck
Maps are available for inspection at the Borough Building, 501 Raber Avenue, Nescopeck, PA 18635.
Borough of Penn Lake Park
Maps are available for inspection at the Penn Lake Park Borough Building, 51 Woodland Drive, White Haven, PA 18661.
Borough of Plymouth
Maps are available for inspection at the Borough Building, 162 West Shawnee Avenue, Plymouth, PA 18651.
Borough of Shickshinny
Maps are available for inspection at the Borough Building, 35 West Union Street, Shickshinny, PA 18655.
Borough of West Hazleton
Maps are available for inspection at the Borough Building, 12 South 4th Street, West Hazleton, PA 18202.
Borough of West Pittston
Maps are available for inspection at the Borough Building, 555 Exeter Avenue, West Pittston, PA 18644.
Borough of Wyoming
Maps are available for inspection at the Borough Building, 277 Wyoming Avenue, Wyoming, PA 18644.
City of Nanticoke
Maps are available for inspection at City Hall, 15 East Ridge Street, Nanticoke, PA 18634.
City of Pittston
Maps are available for inspection at City Hall, 35 Broad Street, Pittston, PA 18640.
City of Wilkes-Barre
Maps are available for inspection at City Hall, 40 East Market Street, Wilkes-Barre, PA 18711.
Township of Lehman
Maps are available for inspection at the Lehman Town Hall, 1183 Old Route 115, Dallas, PA 18612.
Township of Butler
Maps are available for inspection at the Butler Township Building, 415 West Butler Drive, Drums, PA 18222.
Township of Conyngham
Maps are available for inspection at the Conyngham Township Building, 10 Pond Hill Road, Mocanaqua, PA 18655.
Township of Dallas
Maps are available for inspection at the Township Building, 601 Tunkhannock Highway, Dallas, PA 18612.
Township of Dorrance
Maps are available for inspection at the Dorrance Township Building, 7844 Blue Ridge Trail, Mountain Top, PA 18707.
Township of Exeter
Maps are available for inspection at the Exeter Municipal Building, 2305 State Route 92, Harding, PA 18643.
Township of Fairmount
Maps are available for inspection at the Fairmount Township Building, 867 Old Tioga Turnpike, Benton, PA 17814.
Township of Fairview
Maps are available for inspection at the Fairview Township Building, 65 Shady Tree Drive, Mountain Top, PA 18707.
Township of Hanover
Maps are available for inspection at the Township Building, 1267 Sans Souci Parkway, Hanover, PA 18706.
Township of Hazle
Maps are available for inspection at the Hazle Township Building, Rear 101 West 27, Harleigh, PA 18225.
Township of Hollenback
Maps are available for inspection at the Hollenback Township Building, 660 East County Road, Wapwallopen, PA 18660.
Township of Hunlock
Maps are available for inspection at the Township Building, 33 Village Drive, Hunlock Creek, PA 18621.
Township of Huntington
Maps are available for inspection at the Huntington Township Building, 815 Municipal Road, Shickshinny, PA 18655.
Township of Jackson
Maps are available for inspection at the Jackson Township Building, 2211 Huntsville Road, Shavertown, PA 18708.
Township of Jenkins
Maps are available for inspection at the Township Building, 46 1/2; Main Street-Inkerman Section, Jenkins, PA 18640.
Township of Nescopeck
Maps are available for inspection at the Township Building, 429 Berwick-Hazleton Highway, Nescopeck, PA 18635.
Township of Newport
Maps are available for inspection at the Newport Township Building, 1002 Center Street, Wanamie, PA 18634.
Township of Pittston
Maps are available for inspection at the Township Building, 421 Broad Street, Pittston, PA 18640.
Township of Plains
Maps are available for inspection at the Township Building, 126 North Main Street, Plains, PA 18705.
Township of Plymouth
Maps are available for inspection at the Township Building, 925 West Main Street, Plymouth, PA 18651.
Township of Rice
Maps are available for inspection at the Rice Township Building, 3000 Church Road, Mountain Top, PA 18707.
Township of Ross
Maps are available for inspection at the Ross Township Building, 72 Broadway Road, Sweet Valley, PA 18656.
Township of Salem
Maps are available for inspection at the Salem Township Building, 38 Bomboy Lane, Berwick, PA 18603.
Township of Union
Maps are available for inspection at the Union Township Building, 21 Municipal Road, Shickshinny, PA 18655.
Township of Wright
Maps are available for inspection at the Wright Township Building, 321 South Mountain Boulevard, Mountain Top, PA 18707.
Vernon County, Wisconsin, and Incorporated Areas
Docket No.: FEMA-B-1214
Mississippi River | Approximately 185 feet upstream of the Crawford County boundary | +633 | Unincorporated Areas of Vernon County, Village of De Soto, Village of Genoa, Village of Stoddard.
| Approximately 2.75 miles downstream of the La Crosse County boundary | +638
West Branch Baraboo River | Approximately 272 feet downstream of the West Branch Baraboo River Split Flow 2 confluence | +932 | City of Hillsboro, Unincorporated Areas of Vernon County.
| At Sebranek Lane | +966
West Branch Baraboo River Split Flow 2 | Approximately 704 feet downstream of the West Branch Baraboo River confluence | +931 | City of Hillsboro, Unincorporated Areas of Vernon County.
| At the West Branch Baraboo River confluence | +932
* National Geodetic Vertical Datum.
+ North American Vertical Datum.
# Depth in feet above ground.
‸ Mean Sea Level, rounded to the nearest 0.1 meter.
ADDRESSES
City of Hillsboro
Maps are available for inspection at 123 Mechanic Street, Hillsboro, WI 54634.
Unincorporated Areas of Vernon County
Maps are available for inspection at 400 Courthouse Square, Viroqua, WI 54665.
Village of De Soto
Maps are available for inspection at 115 South Houghton Street, De Soto, WI 54624.
Village of Genoa
Maps are available for inspection at 111 Main Street, Genoa, WI 54632.
Village of Stoddard
Maps are available for inspection at 180 North Main Street, Stoddard, WI 54658.

(Catalog of Federal Domestic Assistance No. 97.022, “Flood Insurance.”)

Dated: September 27, 2012.
Sandra K. Knight,
Deputy Associate Administrator for Mitigation, Department of Homeland Security, Federal Emergency Management Agency.

[FR Doc. 2012-26996 Filed 11-5-12; 8:45 am]

BILLING CODE 9110-12-P